DEPARTMENT OF ENERGY

Federal Energy Regulatory Commission

[Docket No. CP02-17-003 and CP02-45-003]

Texas Eastern Transmission, LP; Notice of Compliance Filing

December 6, 2002.

Take notice that on November 12, 2002, Texas Eastern Transmission, LP (Texas Eastern) tendered for filing as part of its FERC Gas Tariff, Seventh Revised Volume No. 1, the following tariff sheets to be effective November 1, 2002.

Sub Original Sheet No. 51B

Sub Original Sheet No. 297A

Sub Original Sheet No. 297B

Sub First Revised Original Sheet No. 503

Texas Eastern states that the purpose of this filing is to comply with the letter order issued by the Federal Energy Regulatory Commission (“Commission”) on October 31, 2002 in Docket Nos. CP02-17-002 and CP02-45-002 (“October 31 Order”). Specifically, Texas Eastern states that the October 31 Order directs Texas Eastern to revise Sheet No. 51B to (i) remove specific customer names and associated volumes for service under Rate Schedule MLS-1 and (ii) reflect the correct GRI surcharge. In addition, Texas Eastern notes that the October 312 Order requires that Texas Eastern remove the definition of the term “Maximum Hourly Quantity” from the General Terms and Conditions of Texas Eastern's FERC Gas Tariff and instead include that definition in Rate Schedule MLS-1. Texas Eastern indicates that the October 31 Order also directs it to file the negotiated rate agreement with New Jersey Natural Gas Company for MLS-1 service on the Freehold Lateral. In sum, Texas Eastern states that the instant filing is being made to comply with these directives.

Texas Eastern states that copies of its filing have been mailed to all affected customers of Texas Eastern, interested state commissions, and all parties listed on the Official Service List compiled by the Secretary of the Commission in this proceeding.

Any person desiring to protest said filing should file a protest with the Federal Energy Regulatory Commission, 888 First Street, NE., Washington, DC 20426, in accordance with Section 385.211 of the Commission's rules and regulations. All such protests must be filed on or before December 12, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 02-31314 Filed 12-11-02; 8:45 am]

BILLING CODE 6717-01-P